DEPARTMENT OF ENERGY

Federal Energy Regulatory Commission

Combined Notice of Filings #1

Take notice that the Commission received the following electric rate filings:

Docket Numbers: ER10-1437-014.

Applicants: Tampa Electric Company.

Description: Triennial Market Power Analysis for Southeast Region of Tampa Electric Company.

Filed Date: 6/30/23.

Accession Number: 20230630-5450.

Comment Date: 5 p.m. ET 8/29/23.

Docket Numbers: ER10-1595-017; ER10-1598-017; ER20-1641-004.

Applicants: Southern Illinois Generation Company, LLC, Lincoln Generating Facility, LLC, Crete Energy Venture, LLC.

Description: Triennial Market Power Analysis for Northeast Region of Crete Energy Venture, LLC, et al.

Filed Date: 6/30/23.

Accession Number: 20230630-5456.

Comment Date: 5 p.m. ET 8/29/23.

Docket Numbers: ER10-1915-012; ER10-1963-012; ER10-2638-012; ER10-3274-004; ER10-3275-006; ER10-3278-004; ER18-213-004; ER20-2060-002; ER22-284-001; ER23-1766-001; ER23-2113-001.

Applicants: ETEM Remediation Two LLC, Boott Hydropower, LLC, MPH AL Pierce, LLC, MPH Rockaway Peakers, LLC, Pittsfield Generating Company, L. P., Forked River Power LLC, Capitol District Energy Center Cogeneration Associates, Pawtucket Power Associates Limited Partnership, Waterbury Generation, LLC, Jamaica Bay Peaking Facility, LLC, Bayswater Peaking Facility, LLC.

Description: Triennial Market Power Analysis for Northeast Region of Bayswater Peaking Facility, LLC, et al.

Filed Date: 6/29/23.

Accession Number: 20230629-5208.

Comment Date: 5 p.m. ET 8/28/23.

Docket Numbers: ER10-2193-004.

Applicants: H.Q. Energy Services (U.S.) Inc.

Description: Triennial Market Power Analysis for Northeast Region of H.Q. Energy Services (U.S.) Inc.

Filed Date: 6/30/23.

Accession Number: 20230630-5439.

Comment Date: 5 p.m. ET 8/29/23.

Docket Numbers: ER10-2309-007; ER10-3058-005; ER10-3059-005; ER10-3065-005; ER10-3066-005; ER22-296-002.

Applicants: Jackson Generation, LLC, Edgewood Energy, LLC, Shoreham Energy, LLC, Equus Power I, L.P., Pinelawn Power, LLC, Elwood Energy, LLC.

Description: Triennial Market Power Analysis for Northeast Region of Elwood Energy, LLC, et al.

Filed Date: 6/29/23.

Accession Number: 20230629-5210.

Comment Date: 5 p.m. ET 8/28/23.

Docket Numbers: ER10-2310-007; ER10-2311-007; ER10-2312-007; ER10-2314-007; ER12-1195-006; ER14-2486-004; ER15-595-004; ER15-924-004; ER15-926-004; ER15-927-004; ER17-2580-003.

Applicants: SEMASS Partnership, Covanta Plymouth Renewable Energy, LLC, Covanta Niagara I, LLC, Covanta Haverhill Associates, LLC, Covanta Fairfax, LLC, Covanta Union, LLC, Camden County Energy Recovery Associates, L.P., Covanta Energy Marketing LLC, Covanta Hempstead Company, Covanta Essex Company, Covanta Delaware Valley, L.P.

Description: Triennial Market Power Analysis for Northeast Region of Covanta Delaware Valley, L.P., et al.

Filed Date: 6/29/23.

Accession Number: 20230629-5202.

Comment Date: 5 p.m. ET 8/28/23.

Docket Numbers: ER10-3194-009; ER10-3195-010; ER16-581-011; ER16-2271-010; ER17-1370-010; ER20-1385-004; ER20-1853-003; ER21-1254-004; ER21-1498-003; ER21-2204-004; ER22-210-002; ER22-1927-002; ER22-1928-001; ER22-1929-002; ER22-1945-001.

Applicants: Powells Creek Farm Solar, LLC, ENGIE Solidago Solar LLC, Salt City Solar LLC, Sunnybrook Farm Solar, LLC, ENGIE 2020 ProjectCo-NH1 LLC, ENGIE Power & Gas LLC, Hawtree Creek Farm Solar, LLC, Genbright LLC, Whitehorn Solar LLC, Bluestone Farm Solar, LLC, ENGIE Energy Marketing NA, Inc., ENGIE Resources LLC, ENGIE Portfolio Management, LLC, MATEP Limited Partnership, MATEP LLC.

Description: Triennial Market Power Analysis for Northeast Region of MATEP LLC, et al.

Filed Date: 6/29/23.

Accession Number: 20230629-5209.

Comment Date: 5 p.m. ET 8/28/23.

Docket Numbers: ER10-3230-013; ER10-3239-013; ER10-3240-013; ER10-3253-013; ER13-1485-013; ER14-1777-011; ER15-2722-009; ER18-1310-004; ER18-2264-009; ER19-289-009; ER19-461-004; ER19-2462-007.

Applicants: Macquarie Energy LLC, Wheelabrator Concord Company, L.P., Cleco Cajun LLC, Macquarie Energy Trading LLC, Wheelabrator Millbury Inc., Wheelabrator Saugus Inc., Wheelabrator Falls Inc., Wheelabrator Baltimore, L.P., Wheelabrator Bridgeport, L.P., Wheelabrator North Andover Inc., Wheelabrator Westchester, L.P., Wheelabrator Portsmouth Inc.

Description: Triennial Market Power Analysis for Northeast Region of Wheelabrator Portsmouth Inc., et al.

Filed Date: 6/30/23.

Accession Number: 20230630-5440.

Comment Date: 5 p.m. ET 8/29/23.

Docket Numbers: ER11-2508-028; ER19-1411-002; ER19-1414-004; ER19-1415-004; ER19-1417-003; ER19-1865-002; ER19-1866-002; ER19-1867-002; ER19-1868-002; ER19-1869-002; ER19-1870-002; ER19-1871-002; ER19-1872-002; ER19-2140-003; ER19-2141-003; ER19-2142-003; ER19-2143-003; ER19-2144-003; ER19-2145-003; ER19-2146-003; ER19-2147-003; ER19-2148-004; ER20-1887-002; ER21-568-001; ER21-573-003; ER21-574-003; ER21-575-003; ER21-577-003; ER21-578-003.

Applicants: Morgantown Station, LLC, Morgantown Power, LLC, Lanyard Power Marketing, LLC, Dickerson Power, LLC, Chalk Point Power, LLC, Lanyard Power Holdings, LLC, Chalk Point Steam, LLC, Heritage Power Marketing, LLC, Mountain Power, LLC, Warren Generation, LLC, Portland Power, LLC, Sayreville Power, LLC, Gilbert Power, LLC, Brunot Island Power, LLC, New Castle Power, LLC, Shawville Power, LLC, Tolna Power, LLC, Titus Power, LLC, Shawnee Power, LLC, Orrtanna Power, LLC, Niles Power, LLC, Hunterstown Power, LLC, Hamilton Power, LLC, Blossburg Power, LLC, GenOn Power Midwest, LP, GenOn California South, LP, GenOn REMA, LLC, GenOn Bowline, LLC, GenOn Energy Management, LLC.

Description: Triennial Market Power Analysis for Northeast Region of GenOn Energy Management, LLC, et al.

Filed Date: 6/29/23.

Accession Number: 20230629-5212.

Comment Date: 5 p.m. ET 8/28/23.

Docket Numbers: ER11-3589-007.

Applicants: Long Island Solar Farm, LLC.

Description: Triennial Market Power Analysis for Northeast Region of Long Island Solar Farm, LLC.

Filed Date: 6/30/23.

Accession Number: 20230630-5447.

Comment Date: 5 p.m. ET 8/29/23.

Docket Numbers: ER11-3642-022.

Applicants: Tanner Street Generation, LLC.

Description: Triennial Market Power Analysis for Northeast Region of Tanner Street Generation, LLC.

Filed Date: 6/29/23.

Accession Number: 20230629-5211.

Comment Date: 5 p.m. ET 8/28/23.

Docket Numbers: ER13-760-002; ER19-430-002; ER19-2644-002; ER22-2483-001.

Applicants: Alta Farms Wind Project II, LLC, Whitney Hill Wind Power, LLC, Enel Green Power Hilltopper Wind, LLC, Canastota Windpower, LLC.

Description: Triennial Market Power Analysis for Northeast Region of Canastota Windpower, LLC, et al.

Filed Date: 6/30/23.

Accession Number: 20230630-5441.

Comment Date: 5 p.m. ET 8/29/23.

Docket Numbers: ER13-1667-006.

Applicants: Battery Utility of Ohio, LLC.

Description: Triennial Market Power Analysis for Northeast Region of Battery Utility of Ohio, LLC.

Filed Date: 6/30/23.

Accession Number: 20230630-5453.

Comment Date: 5 p.m. ET 8/29/23.

Docket Numbers: ER15-103-013; ER22-2144-004.

Applicants: Invenergy Nelson Expansion LLC, Invenergy Nelson LLC.

Description: Triennial Market Power Analysis for Northeast Region of Invenergy Nelson LLC, et al.

Filed Date: 6/30/23.

Accession Number: 20230630-5448.

Comment Date: 5 p.m. ET 8/29/23.

Docket Numbers: ER15-1019-009; ER15-356-016; ER15-357-016; ER19-2250-007; ER22-1418-003; ER22-2703-001.

Applicants: Pattern Energy Management Services LLC, Trailstone Renewables, LLC, TrailStone Energy Marketing, LLC, Chief Keystone Power, LLC, Chief Conemaugh Power, LLC, Fowler Ridge IV Wind Farm LLC.

Description: Triennial Market Power Analysis for Northeast Region of Fowler Ridge IV Wind Farm LLC, et al.

Filed Date: 6/30/23.

Accession Number: 20230630-5452.

Comment Date: 5 p.m. ET 8/29/23.

Docket Numbers: ER16-2226-005.

Applicants: McHenry Battery Storage, LLC.

Description: Triennial Market Power Analysis for Northeast Region of McHenry Battery Storage, LLC.

Filed Date: 6/30/23.

Accession Number: 20230630-5455.

Comment Date: 5 p.m. ET 8/29/23.

Docket Numbers: ER18-140-012.

Applicants: Lackawanna Energy Center LLC.

Description: Triennial Market Power Analysis for Northeast Region of Lackawanna Energy Center LLC.

Filed Date: 6/30/23.

Accession Number: 20230630-5449.

Comment Date: 5 p.m. ET 8/29/23.

Docket Numbers: ER18-2418-009.

Applicants: Great River Hydro, LLC.

Description: Triennial Market Power Analysis for Northeast Region of Great River Hydro, LLC.

Filed Date: 6/29/23.

Accession Number: 20230629-5213.

Comment Date: 5 p.m. ET 8/28/23.

Docket Numbers: ER19-1795-002; ER19-1798-002; ER19-1793-002; ER19-1797-002; ER19-1796-002; ER19-1799-002; ER11-2036-015; ER18-2327-007; ER19-902-003; ER19-1597-005; ER20-902-002; ER20-1593-005; ER20-1594-004; ER20-1596-005; ER20-1597-005; ER20-1599-005; ER20-1620-003; ER21-2767-002; ER22-414-003; ER22-1518-002; ER23-495-004; ER23-1631-001.

Applicants: Cavalier Solar A, LLC,AES CE Solutions, LLC, Laurel Mountain BESS, LLC, AES Marketing and Trading, LLC, Skipjack Solar Center, LLC, AES Solutions Management, LLC, Richmond Spider Solar, LLC, Pleinmont Solar 2, LLC, Pleinmont Solar 1, LLC, Highlander IA, LLC, Highlander Solar Energy Station 1, LLC, sPower Energy Marketing, AES Integrated Energy, LLC, Valcour Wind Energy, LLC, Riverhead Solar Farm, LLC, AES Laurel Mountain, LLC, Valcour Wethersfield Windpark, LLC, Valcour Chateaugay Windpark, LLC, Valcour Clinton Windpark, LLC, Valcour Altona Windpark, LLC, Valcour Ellenburg Windpark, LLC, Valcour Bliss Windpark, LLC.

Description: Triennial Market Power Analysis for Northeast Region of AES Laurel Mountain, LLC, et al.

Filed Date: 6/28/23.

Accession Number: 20230628-5199.

Comment Date: 5 p.m. ET 8/28/23.

Docket Numbers: ER20-879-004; ER20-1436-004; ER20-1437-004; ER20-1438-004.

Applicants: Energy Harbor Nuclear Generation LLC, Energy Harbor Generation LLC, Energy Harbor LLC, Pleasants LLC.

Description: Triennial Market Power Analysis for Northeast Region of Pleasants LLC, et al.

Filed Date: 6/29/23.

Accession Number: 20230629-5198.

Comment Date: 5 p.m. ET 8/28/23.

Docket Numbers: ER20-2755-001; ER20-2276-002; ER22-1566-004.

Applicants: Guernsey Power Station LLC, Moxie Freedom LLC, Caithness Long Island, LLC.

Description: Triennial Market Power Analysis for Northeast Region of Caithness Long Island, LLC, et al.

Filed Date: 6/30/23.

Accession Number: 20230630-5454.

Comment Date: 5 p.m. ET 8/29/23.

Docket Numbers: ER23-1373-002.

Applicants: Hillcrest Solar I, LLC.

Description: Triennial Market Power Analysis for Northeast Region of Hillcrest Solar I, LLC.

Filed Date: 6/30/23.

Accession Number: 20230630-5451.

Comment Date: 5 p.m. ET 8/29/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 7, 2023.
Debbie-Anne A. Reese,
Deputy Secretary.

[FR Doc. 2023-14868 Filed 7-12-23; 8:45 am]

BILLING CODE 6717-01-P